DEPARTMENT OF COMMERCE

National Oceanic and Atmospheric Administration

[RTID 0648-XF439]

New England Fishery Management Council; Public Meeting

AGENCY: National Marine Fisheries Service (NMFS), National Oceanic and Atmospheric Administration (NOAA), Commerce Department.

ACTION: Notice of public meeting.

SUMMARY: The New England Fishery Management Council (Council) will hold a 2-day virtual meeting with online webinar participation options to consider actions affecting New England fisheries in the exclusive economic zone (EEZ).

DATES: The meeting will be held Wednesday, January 28 through Thursday, January 29, 2026, beginning at 10 a.m. on Wednesday and 9 a.m. on Thursday.

ADDRESSES: Webinar registration: Information on how to register and provide public comment via webinar will be posted on the Council's January 2026 meeting web page at: https://www.nefmc.org/calendar/january-2026-council-meeting.

Register for the webinar at https://nefmc-org.zoom.us/webinar/register/WN_N4TMX7UIRjahokCtRPUrfg.

Council address: New England Fishery Management Council, 50 Water Street, Mill 2, Newburyport, MA 01950; telephone (978) 465-0492; www.nefmc.org.

FOR FURTHER INFORMATION CONTACT: Cate O'Keefe, Executive Director, New England Fishery Management Council; telephone: (978) 465-0492, ext. 113.

SUPPLEMENTARY INFORMATION:

Agenda

Wednesday, January 28, 2026

The Council will begin the meeting with a closed session of voting Council members to discuss appointments to the Scientific and Statistical Committee (SSC). Following the closed session, the meeting will open with introductions and announcements from the Council Chair. The Council will then receive reports on recent activities from the Council Chair and Executive Director; the Greater Atlantic Regional Fisheries Office (GARFO) Regional Administrator; NOAA Office of the General Counsel; the Northeast Fisheries Science Center (NEFSC); the Mid-Atlantic Fishery Management Council (MAFMC); the Atlantic States Marine Fisheries Commission (ASMFC); the United States Coast Guard; and the NOAA Office of Law Enforcement.

Following reports, NOAA will provide a presentation on the Marine Recreational Information Program Fishing Effort Survey study. The presentation will include updates on the follow-up study, calibration efforts, and the peer review process.

After a lunch break, the Council will reconvene to receive a report from the Groundfish Committee, including recommendations for recreational measures for Fishing Year 2026 for Atlantic cod and haddock. The Council will then receive a report from the Scallop Committee, and take action to approve the final report of the Limited Access General Category Individual Fishing Quota Program Review.

Next, the Habitat Committee will report on the Essential Fish Habitat (EFH) review and discuss initiating a framework action to revise EFH designations for several stocks. The Council will then receive updates on Inflation Reduction Act (IRA) initiatives, including status updates and anticipated timing for project milestones and activities. The meeting will adjourn for the day at approximately 5 p.m.

Thursday, January 29, 2026

The second day of the meeting will begin with an update on the status of the Council's revised Risk Policy and the activities of the Risk Policy Working Group. The Council will then hold an open period for public comment. Following public comment, there will be a summary of the Holistic Strategic Plan Workshop conducted as part of the Council's Holistic Strategic Plan Initiative.

Next, will be a presentation on Council planning updates, including workplans and action timelines for Groundfish, Scallops, Monkfish, Skate, Atlantic herring, and Small-Mesh Multispecies, as well as other activities related to 2026 Council priorities.

The meeting will conclude with other business and adjourn at approximately 1 p.m.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Executive Director Cate O'Keefe (see ADDRESSES) at least 5 days prior to the meeting date.

Authority: 16 U.S.C. 1801 et seq.

Dated: January 9, 2026.
Rey Israel Marquez,
Acting Deputy Director, Office of Sustainable Fisheries, National Marine Fisheries Service.

[FR Doc. 2026-00510 Filed 1-13-26; 8:45 am]

BILLING CODE 3510-22-P